ENVIRONMENTAL PROTECTION AGENCY

[FRL-6963-5]

Agency Information Collection Activities: Proposed Collection; Comment Request; “Stakeholder Preferences Regarding Environmental Quality, Quality of Life, and Economic Development in Survey of Cape May County, New Jersey”

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): Stakeholder Preferences Regarding Environmental Quality, Quality of Life, and Economic Development in Survey of Cape May County, New Jersey, EPA ICR No. 2019.01. Before submitting the ICR to OMB for review and approval, EPA is soliciting comments on specific aspects of the proposed information collection as described below.

DATES: Comments must be submitted on or before June 5, 2001.

ADDRESSES: The surveys as they will be received by respondents may be obtained without charge by mailing or e-mailing a request to Dr. Ann Fisher, Pennsylvania State University, AERS, 107 Armsby Building, University Park, PA 16802, email: fisherann@psu.edu; phone: (814) 865-3143. Be sure to include your name, address, telephone number, e-mail if available, and delivery preference (diskette by mail, or e-mail delivery).

FOR FURTHER INFORMATION CONTACT: Dr. Janet L. Gamble, U.S. Environmental Protection Agency, Mail Code 8601D, 1200 Pennsylvania Ave NW., Washington, DC 20460; e-mail: gamble.janet@epa.gov; phone: (202) 564-3387; FAX: (202) 565-0075.

SUPPLEMENTARY INFORMATION: Affected Entities: Entities potentially affected by this action are individuals who agree to participate in the survey. Participation is voluntary. Recruiting will be done by telephone using random-digit dialing to select households and businesses in Cape May County, NJ in a manner described by the abstract below.

Title: Stakeholder Preferences Regarding Environmental Quality, Quality of Life, and Economic Development in Survey of Cape May County, New Jersey (EPA ICR No. 2019.01).

Abstract: The Pennsylvania State University (PSU) in cooperation with the Global Change Research Program (GCRP) in the Office of Research and Development (ORD) of the U.S. Environmental Protection Agency (EPA) is proposing to conduct a survey of individual residents and business managers in Cape May County, New Jersey. The survey will solicit Cape May County (NJ) residents' perceptions about their quality of life, how they prioritize risks to their quality of life, and their judgments about trade-offs among alternative actions that would reduce vulnerability to these risks. The focus will be on risks related to changes in land-use practices such as development of open land, and risks related to the potential for storm damages that could accompany sea-level rise or climate change. The survey approach also will solicit business managers' perceptions of direct and indirect risks from flooding.

This data collection is motivated by the Mid-Atlantic Regional Assessment of the Potential Consequences of Climate Variability and Change (MARA), that showed that many potential impacts from climate change will exacerbate existing environmental stresses, particularly those from economic development and sea level rise. Yet little is known about how individuals and their communities are willing to make trade-offs between protection of nearby ecosystems and local economic development. This is particularly important in coastal communities where a major component of many livelihoods stems from tourism based on ecological features such as migratory bird habitat. Paradoxically, development decisions to accommodate more tourists could decrease the habitat for the ecosystems that attract tourists. This could be compounded by failing to account for climate change and for the sea-level rise that is occurring as Mid-Atlantic coastal areas subside; sea-level rise and climate change could affect both ecosystem habitat as well as developed areas. Decisions by individual citizens, businesses, developers, local planners, and environmental protection agencies could be improved by having information about the relative importance of a range of quality-of-life characteristics, including habitat and infrastructure protection, when compared with economic development. Because Cape May County has many of these features, it is an appropriate test case for identifying preferences about such trade-offs.

The data is being collected by Penn State University in collaboration with EPA/ORD Global Change Research Program, under Cooperative Agreement No. R-82840701-0. This survey is not associated with any rule-making process within the Federal government. Instead, Penn State will use this research to demonstrate the potential usefulness of such an approach for localities that want more information about tradeoffs related to development decisions. For Cape May County, the data will be used to assess the relative importance of quality-of-life characteristics and citizens' willingness to make trade-offs among actions to improve the levels and resiliency of those characteristics. The results will be useful most directly for (and are expected to be used by) the residents of Cape May County. The development, pretesting and revision, implementation, and analysis of the data will demonstrate the usefulness of the questionnaire for implementation by other communities facing similar issues.

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The (completely voluntary) survey will have two phases. Phase I will be a 10-minute phone survey, with a component tailored to each of two target groups. Identified through random-digit dialing (RDD), permanent residents and those who visit for a month or more each year (N = 1225) will be asked to rate quality-of-life characteristics, make straight-forward judgments about future development and storm threats, and respond to standard socio-demographic questions. The other target group is a sample (N = 300) of local businesses that will be asked about damages they might experience if a flood occurred, as well as actions they have taken or plan to take to reduce their vulnerability. Data from the business survey will provide context for interpreting the citizen survey. Phase II will be a (20-minute) mail follow-up to the phone survey, sent to residents who express interest in providing judgments comparing combinations of quality-of-life characteristics (N = 600). Its data will provide more depth for the research analysis and for reporting back to Cape May County. The total number of respondents is 2125. The only cost to respondents will be their time, for a total of 454.17 hours. The burden estimates are based on administration of 2125 questionnaires. The total respondent cost estimate is $9,610.24.

Burden means the total time, effort, or financial resources expended by persons to generate, maintain, retain, disclose or provide information to or for a Federal Agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: March 29, 2001.
Arthur F. Payne,
Acting Director, National Center for Environmental Assessment.

[FR Doc. 01-8493 Filed 4-5-01; 8:45 am]

BILLING CODE 6560-50-U